DEPARTMENT OF EDUCATION

National Advisory Council on Indian Education (NACIE)

AGENCY: National Advisory Council on Indian Education (NACIE), U.S. Department of Education.

ACTION: Supplemental notice of open meeting.

SUMMARY: On May 5, 2025, the Department of Education (Department) published in the Federal Register a notice of an open meeting for June 18-19, 2025. The Department is amending the dates to June 17-18, 2025. This notice provides information about the meeting updates to members of the public who may be interested in virtually attending the meeting and how to provide written and/or oral comment for the meeting. Notice of this meeting is required by the Federal Advisory Committee Act.

DATES: As of June 5, 2025, the dates for the NACIE meeting announced at 90 FR 18973 (May 5, 2025) are updated from June 18-19, 2025, to June 17-18, 2025. Written comments related to the meeting should be submitted no later than 11:59 p.m. Eastern Time (ET) on June 8, 2025.

ADDRESSES: The public may access the NACIE meeting via Zoom at https://www.zoomgov.com/meeting/register/VGXBqyrsT8enIigUXjTlLw. Submit written comments via email to Julian Guerrero at Julian.Guerrero@ed.gov.

FOR FURTHER INFORMATION CONTACT: Julian Guerrero, Jr., Designated Federal Official, Office of Indian Education, U.S. Department of Education, 400 Maryland Avenue SW, Office 4B-116, Washington, DC 20202. Telephone: (202) 213-3416. Email: Julian.Guerrero@ed.gov.

SUPPLEMENTARY INFORMATION:

Statutory Authority and Function: NACIE is authorized by section 6141 of the Elementary and Secondary Education Act of 1965 (ESEA), as amended (20 U.S.C. 7471). In accordance with section 6141 of the ESEA, NACIE shall advise the Secretary of Education and the Secretary of Interior on the funding and administration (including the development of regulations and administrative policies and practices) of any program, including any program established under Title VI, Part A of the ESEA, with respect to which the Secretary of Education has jurisdiction and (1) that includes Indian children or adults as participants or (2) that may benefit Indian children or adults. Also in accordance with section 6141 of the ESEA, NACIE shall make recommendations to the Secretary of Education for filling the position of Director of Indian Education whenever a vacancy occurs and shall submit to the Congress, no later than June 30 of each year, a report on its activities that includes recommendations that are considered appropriate for the improvement of Federal education programs that include Indian children or adults as participants or that may benefit Indian children or adults, and recommendations concerning the funding of any such program.

Updates

Meeting Agenda: The purpose of the meeting is to convene NACIE and conduct open business. On June 17, 2025, NACIE will conduct the following business: (1) discuss fiscal year 2026 planning activities; (2) discuss subcommittee activities; and (3) approve annual report to Congress 2024-2025. On June 18, 2025, NACIE will conduct the following business: (4) discuss and hear updates from Federal representatives regarding technical assistance, best practices, and development of regulatory or non-regulatory actions; and (5) hear comments from members of the public.

Instructions for Accessing the Meeting: The public may access the NACIE meeting via Zoom. The web link to register and access is https://www.zoomgov.com/meeting/register/VGXBqyrsT8enIigUXjTlLw. There is no deadline to register, and the public may register and virtually enter the meeting at any time.

Public Comment: Members of the public interested in submitting written comments may do so via email to Julian Guerrero at Julian.Guerrero@ed.gov. Written comments related to the June 17-18, 2025, NACIE meeting should be submitted no later than 11:59 p.m. ET on June 8, 2025.

Members of the public may also make oral comment during the open meeting on June 18, 2025. Requests to make oral comment will be accepted on a first requested, first served basis. Each commenter must use the “raise your hand” feature and enter “I request to make an oral comment” into the meeting chat. Each commenter will have a maximum of three minutes to state his or her comment and/or question. Please note that written comments and oral comments made during the open meeting should pertain to the work of NACIE.

Reasonable Accommodations: The virtual meeting is accessible to individuals with disabilities. If you will need an auxiliary aid or service for the meeting (e.g., interpreting service, assistive listening device, or materials in an alternate format), notify the contact person listed in this notice no later than June 8, 2025. Although we will attempt to meet a request received after that date, we may not be able to make available the requested auxiliary aid or service because of insufficient time to arrange it.

Access to Records of the Meeting: The Department will post the official minutes of this meeting on the Office of Elementary and Secondary Education website, https://ed.gov/, within 90 days after the meeting. Pursuant to 5 U.S.C. 1009(b), the public may also inspect NACIE records at the Office of Indian Education, U.S. Department of Education, 400 Maryland Avenue SW, Washington, DC 20202, Monday-Friday, 8:30 a.m. to 5 p.m. ET. Please email Julian Guerrero at Julian.Guerrero@ed.gov to schedule an appointment.

Electronic Access to this Document: The official version of this document is published in the Federal Register. Free internet access to the official edition of the Federal Register and the Code of Federal Regulations is available via the Federal Digital System at: www.govinfo.gov/. At this site, you can view this document, as well as all other documents of this Department published in the Federal Register, in text or Adobe Portable Document Format (PDF). To use PDF, you must have Adobe Acrobat Reader, which is available free at the site. You also may access documents of the Department published in the Federal Register by using the article search feature at: www.federalregister.gov.

Specifically, through the advanced search feature at this site, you can limit your search to documents published by the Department.

Authority: Section 6141 of the ESEA, as amended (20 U.S.C. 7471).

Hayley B. Sanon,
Principal Deputy Assistant Secretary and Acting Assistant Secretary Office of Elementary and Secondary Education.

[FR Doc. 2025-10242 Filed 6-4-25; 8:45 am]

BILLING CODE 4000-01-P